DEPARTMENT OF TRANSPORTATION

Office of the Secretary

Notice of Applications for Certificates of Public Convenience and Necessity and Foreign Air Carrier Permits Filed Under Subpart B (formerly Subpart Q) during the Week Ending April 13, 2001

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period, DOT may process the application by expedited procedures. Such procedures may consist of the adoption of a show-cause order, a tentative order, or in appropriate cases a final order without further proceedings.

Docket Number: OST-2001-9382.

Date Filed: April 9, 2001.

Due Date for Answers, Conforming Applications, or Motion to Modify Scope: April 30, 2001.

Description: Application of Polar Air Cargo, Inc., pursuant to 49 U.S.C. 41102, 14 CFR Part 201, 14 CFR, Part 302, and Subpart B, requesting renewal of its certificate of public convenience and necessity authorizing Polar to engage in foreign air transportation of property and mail between a point or points in the United States and a point or points in Thailand.

Docket Number: OST-2001-9406.

Date Filed: April 12, 2001.

Due Date for Answers, Conforming Applications, or Motion to Modify Scope: April 30, 2001.

Description: Application of Wande Scheck Airlines, pursuant to 49 U.S.C. 41102 and Subpart B, requesting a certificate of public convenience and necessity, authorizing it to engage in foreign scheduled air transportation of persons, property and mail.

Docket Number: OST-1999-6345.

Date Filed: April 13, 2001.

Due Date for Answers, Conforming Applications, or Motion to Modify Scope: May 4, 2001.

Description: Application of United Parcel Service Co., pursuant to 49 U.S.C. 41102 and Part 302, Subpart B, requesting renewal of its certificate to engage in the foreign air transportation of property and mail between the coterminal points Houston, Texas, and Miami, Florida, and the coterminal points Lima and Iquitos, Peru.

Dorothy Y. Beard,
Federal Register Liaison.

[FR Doc. 01-10416 Filed 4-25-01; 8:45 am]

BILLING CODE 4910-62-U